DEPARTMENT OF AGRICULTURE

Animal and Plant Health Inspection Service

9 CFR Parts 148 and 149

[Docket No. APHIS-2022-0061]

RIN 0579-AE75

US Swine Health Improvement Plan; Reopening of Comment Period

AGENCY: Animal and Plant Health Inspection Service, USDA.

ACTION: Proposed rule; reopening of comment period.

SUMMARY: We are reopening the comment period for our proposed rule that would create the regulations governing the US Swine Health Improvement Plan, a voluntary livestock improvement program aimed at improving biosecurity, traceability, and disease surveillance for swine health. This action will allow interested persons additional time to prepare and submit comments.

DATES: The comment period for the proposed rule published on December 31, 2024 (89 FR 107045-107063) is reopened. We will consider all comments that we receive on or before March 31, 2025.

ADDRESSES: You may submit comments by either of the following methods:

• Federal eRulemaking Portal: Go to www.regulations.gov. Enter APHIS-2022-0061 in the Search field. Select the Documents tab, then select the Comment button in the list of documents.

• Postal Mail/Commercial Delivery: Send your comment to Docket No. APHIS-2022-0061, Regulatory Analysis and Development, PPD, APHIS, Station 2C-10.16, 4700 River Road Unit 25, Riverdale, MD 20737-1238.

Supporting documents and any comments we receive on this docket may be viewed at Regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Lydia Carpenter, Veterinary Medical Officer, Aquaculture, Swine, Equine, and Poultry Health Center, VS, Department of Agriculture, Animal and Plant Health Inspection Service, 920 Main Campus Drive, Suite 200, Raleigh, NC 27606; phone: (919) 855-7276; email; lydia.carpenter@usda.gov.

SUPPLEMENTARY INFORMATION: On December 31, 2024, we published in the Federal Register (89 FR 107045-107063, Docket No. APHIS-2022-0061) a proposal to create the regulations governing the US Swine Health Improvement Plan, a voluntary livestock improvement program aimed at improving biosecurity, traceability, and disease surveillance for swine health.

Comments on the proposed rule were required to be received on or before January 30, 2025. We are reopening the comment period on Docket No. APHIS-2022-0061 for an additional 30 days. This action will allow interested persons additional time to prepare and submit comments. We will also consider all comments received between January 31, 2025 (the day after the close of the original comment period) and the date of this document.

(Authority: 7 U.S.C. 8301-8317; 7 CFR 2.22, 2.80, and 371.4)

Done in Washington, DC, this 20th day of February 2025.
Michael Watson,
Administrator, Animal and Plant Health Inspection Service.

[FR Doc. 2025-03100 Filed 2-27-25; 8:45 am]

BILLING CODE 3410-34-P